DEPARTMENT OF ENERGY

Federal Energy Regulatory Commission

[Docket No. AD14-6-000]

New York Independent System Operator, Inc.; Supplemental Notice of Technical Conference

As announced in the Notice issued on January 28, 2014, the Federal Energy Regulatory Commission (Commission) staff will hold a technical conference on February 26, 2014, from 9:00 a.m. to approximately 1:00 p.m. (Eastern Time), to discuss with interested parties whether to model Load Zone K as an export-constrained zone for future Demand Curve reset proceedings.¹

¹ New York Indep. Sys. Operator, Inc., 144 FERC ¶ 61,126 (2013).

The conference will be held at the Federal Energy Regulatory Commission, 888 First Street NE., Washington, DC 20426. The technical conference will be led by staff, and will be open for the public to attend. The conference will include a background presentation by New York Independent System Operator, Inc. as well as technical questions from Commission Staff. There will also be opportunities for comments and questions from other conference attendees. The specific agenda and procedures to be followed at the conference will be announced by staff at the opening of the conference. Attendees should be prepared to discuss the following:

1. Whether Zone K (Long Island) can be modeled as export constrained Load Zone.

2. Whether Zone K should be included as a nested zone within the current G-J Locality so that the larger zone would become a G-K Locality. If not, what rationale supports allowing Zone K to be a nested zone within NYCA, but not a nested zone within the G-J Locality? Specifically, how can generation capacity located in Zone K be made available to serve the reliability needs of Zones A-F but not the reliability needs of Zones G-J?

3. Whether sufficient transmission capability exists to allow at least some capacity located in Zone K to reliably serve the needs of loads in Zones G-J. If so, what limits, if any, should be placed on the amount of capacity in Zone K that could be relied upon to serve the needs of loads in Zones G-J? How should those limits be determined?

The January 28, 2014 Notice of Technical Conference stated that there will be a free webcast of the conference available. We will not be able to provide webcasting for this event. However, those wishing to receive teleconferencing should inform us by Monday, February 24, by sending an email request to sarah.mckinley@ferc.gov. Please put “teleconference request” on the subject line, and include your name, email and telephone number. Teleconference information will be emailed to you by February 25, 2014. The technical conference will be transcribed.

Attendees may register in advance at the following Web page: https://www.ferc.gov/whats-new/registration/zone-k-02-26-14-form.asp. Advance registration is not required, but is encouraged. Parties attending in person should still allow time to pass through building security procedures before the 9:00 am (Eastern Time) start time of the conference.

Following the conference, the Commission will consider post-technical conference comments submitted on or before March 26, 2014. Answers to post-technical conference comments are due by close of business on or before April 16, 2014.

Commission conferences are accessible under section 508 of the Rehabilitation Act of 1973. For accessibility accommodations, please send an email to accessibility@ferc.gov or call toll free 1-866-208-3372 (voice) or 202-502-8659 (TTY), or send a FAX to 202-208-2106 with the required accommodations.

All interested persons are permitted to attend. For more information about the technical conference, please contact:

Adria M. Woods (Technical Information), Office of Energy Market Regulation, Federal Energy Regulatory Commission, 888 First Street NE., Washington, DC 20426, (202) 502-8431, Adria.Woods@ferc.gov.

Sarah McKinley (Logistical Information), Office of External Affairs, Federal Energy Regulatory Commission, 888 First Street NE., Washington, DC 20426, (202) 502-8004, Sarah.McKinley@ferc.gov.

Dated: February 19, 2014.
Kimberly D. Bose,
Secretary.

[FR Doc. 2014-04042 Filed 2-25-14; 8:45 am]

BILLING CODE 6717-01-P